Proclamation 10545 of March 31, 2023

National Sexual Assault Awareness and Prevention Month, 2023

By the President of the United States of America

A Proclamation

Freedom from sexual assault is a basic human right. Yet tens of millions of Americans—our family and friends, colleagues, neighbors, and classmates—carry the trauma of sexual assault with them. National Sexual Assault Awareness and Prevention Month is an important time to speak out, stand with courageous survivors, and finally change the culture that has allowed sexual violence to exist for far too long.

Sexual violence affects all people, regardless of geography, race, age, ethnicity, gender, religion, sexual orientation, gender identity, or economic background. One in four women and 1 in 26 men have survived a rape or attempted rape. Abuse can happen anywhere—at work, at home, at school, in other public places, or online. It can lead to depression, anxiety, PTSD, and other physical and emotional wounds. We must keep fighting to make clear how important consent is and how sexual assault can be a crime. And we must help survivors access safety, justice, and healing.

That is why I wrote the landmark Violence Against Women Act (VAWA) 30 years ago, at a time when domestic violence and sexual assault were often swept under the rug. We changed that. VAWA has given us tools to prevent and prosecute sexual assault and provide support for survivors. It has helped to save and rebuild so many lives, and I have never quit working to strengthen the law, including expanding protections when VAWA was reauthorized in 2000, 2005, 2013, and most recently in 2022. These efforts have expanded support for survivors, especially for people of color, members of the LGBTQI+ community, and immigrants, and have broadened protections to cover online abuse, such as the non-consensual distribution of intimate images. We increased VAWA funding this past year by 20 percent to a historic $700 million for 2023.

Today, we are doing more to help survivors in underserved communities and rural areas. We are working to reduce the backlog of untested rape kits as many survivors continue to wait for justice. We are improving trauma-informed training for law enforcement and making sure that adult survivors of child sexual abuse can get help, including legal help and support for healing. And we have ensured that Tribal courts have jurisdiction over non-Native perpetrators suspected of committing crimes of sexual assault, sex trafficking, and child abuse on Tribal lands. Additionally, through the American Rescue Plan, we have delivered $1 billion in additional funding for rape crisis centers, culturally specific community support organizations, and other domestic violence and sexual assault services nationwide.

We have also reformed how the military investigates and prosecutes sexual assault, sexual harassment, and related crimes, including by shifting authority from commanders to independent prosecutors. I issued an Executive Order listing sexual harassment and the wrongful distribution of intimate images as offenses under the Uniform Code of Military Justice.

I launched a Federal task force to tackle the rise in online sexual harassment and abuse, recommending concrete steps for prevention, accountability, research, and support for survivors. And I signed laws ending forced arbitration and limiting the enforcement of non-disclosure agreements to ensure people who have experienced sexual assault and sexual harassment in the workplace can pursue justice.

While we have made progress addressing sexual violence over the years, there is still much work to do. As President, I have expanded funding for campus prevention efforts, building on the work I did as Vice President when we launched “It's On Us”. I signed an Executive Order calling on the Department of Education to protect students from discrimination based on sex, including sex-based harassment and sexual violence. And I will continue to fight tirelessly to realize the promise of Title IX, which requires institutions to prevent and address sexual violence and harassment. I have called on young men in particular to speak up and stand against abuse—because the real test of character is having the guts to do the right thing. And I have been awed by the courage of countless survivors in every part of the country who have come forward to push for justice and have inspired many others to do the same. It is on us all to stand with them.

NOW, THEREFORE, I, JOSEPH R. BIDEN JR., President of the United States of America, by virtue of the authority vested in me by the Constitution and laws of the United States, do hereby proclaim April 2023 as National Sexual Assault Awareness and Prevention Month. I urge all Americans to support sexual assault survivors, including when survivors reach out and disclose abuse, and to strengthen our efforts to prevent this abuse in the first place.

IN WITNESS WHEREOF, I have hereunto set my hand this thirty-first day of March, in the year of our Lord two thousand twenty-three, and of the Independence of the United States of America the two hundred and forty-seventh.

[FR Doc. 2023-07313

Filed 4-4-23; 11:15 am]

Billing code 3395-F3-P